DEPARTMENT OF EDUCATION

Applications for New Awards: Augustus F. Hawkins Centers of Excellence Program

AGENCY: Office of Postsecondary Education, Department of Education.

ACTION: Notice.

SUMMARY: The Department of Education (Department) is issuing a notice inviting applications for fiscal year (FY) 2022 for the Augustus F. Hawkins Centers of Excellence (Hawkins) Program, Assistance Listing Number (ALN) 84.116K. This notice relates to the approved information collection under OMB control number 1894-0006.

DATES:

Applications Available: August 23, 2022.

Deadline for Transmittal of Applications: October 7, 2022.

Deadline for Intergovernmental Review: December 6, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Dr. Vicki Robinson, U.S. Department of Education, 400 Maryland Avenue SW, room 2B136, Washington, DC 20202. Telephone: (202) 453-7907. Email: Vicki.Robinson@ed.gov. You may also contact Ashley Hillary, U.S. Department of Education, 400 Maryland Avenue SW, Room 2C143, Washington, DC 20202. Telephone: (202) 453-7880. Email: Ashley.Hillary@ed.gov.

If you are deaf, hard of hearing, or have a speech disability and wish to access telecommunications relay services, please dial 7-1-1.

SUPPLEMENTARY INFORMATION:

Full Text of Announcement

I. Funding Opportunity Description

Purpose of Program: The Hawkins Program, authorized under Part B of Title II of the Higher Education Act of 1965, as amended (HEA) is designed to support centers of excellence at institutions of higher education (IHEs). The selected centers of excellence must be established at Historically Black Colleges and Universities (HBCUs); Tribal Colleges or Universities (TCUs); or Minority Serving Institutions (MSIs), such as Hispanic-Serving Institutions (HSIs), with a State-accredited teacher preparation program, to help increase and retain the number of well-prepared teachers from diverse backgrounds, resulting in a more diverse teacher workforce prepared to teach in our Nation's low performing elementary and secondary schools and close achievement gaps.¹ This program focuses on the various aspects of the teacher preparation pipeline, including the recruitment, preparation, support, placement, and retention of teachers for and in high-need local education agencies (LEAs) to support underserved students. Through this program, the Secretary seeks to fund applicants that propose to incorporate evidence-based components and practices into their teacher preparation program.

¹ Anderson, Meredith, B.L., Brian K. Bridges, Brittany A. Harris and Sekou Biddle. (2020). Imparting Wisdom: HBCU Lessons for K-12 Education. Washington, DC: Frederick D. Patterson Research Institute, UNCF.

Background: The FY 2022 Consolidated Appropriations Act provides $8 million in first-time funding for the Hawkins Program to diversify the teacher workforce, including supporting teaching assistant initiatives at HBCUs, TCUs, and MSIs that have partnerships with high-need LEAs.

The Hawkins Program is particularly well-positioned to advance equity in our education system by increasing the access of teacher candidates, including teacher candidates of color, to comprehensive programs that will support them in developing the knowledge and skills they need to positively impact student achievement and outcomes. There is significant inequity in students' access to well-qualified, experienced, and effective teachers,² particularly for students from low-income backgrounds, students of color, children or students with disabilities, and English learners (ELs).

² Isenberg, E., Max, J., Gleason, P., Johnson, M., Deutsch, J., and Hansen, M. (2016). Do Low-Income Students Have Equal Access to Effective Teachers? Evidence from 26 Districts (NCEE 2017-4007). Washington, DC: National Center for Education Evaluation and Regional Assistance, Institute of Education Sciences, U.S. Department of Education.

Although HBCUs, TCUs, and MSIs confer just over 12 percent of all bachelor's degrees in education, these institutions account for over 40 percent of all education degrees awarded to teachers of color,³ and thus are a critical part of the solution to recruit, prepare, train, support, and place teachers who will provide culturally and linguistically relevant teaching in high-need and hard-to-staff schools. This is critical to advancing the Department's mission to promote student achievement and preparation for global competitiveness by fostering educational excellence and ensuring equal access for all students.

³ Gasman, M., Castro Samayoa, A., & Ginsberg, A. (2016). A Rich Source for Teachers of Color and Learning: Minority Serving Institutions. Philadelphia, PA: Penn Center for Minority Serving Institutions.

Unfortunately, the current teacher workforce does not reflect the demographics of the Nation's public school students, the majority of whom are students of color.⁴ In 2017-18, the most recent year for which data were available, 79 percent of public school educators were white, while 21 percent were teachers of color.⁵ Increasing opportunities for comprehensive teacher preparation programs at HBCUs, TCUs, and MSIs will help diversify the teacher workforce.

⁴ https://nces.ed.gov/programs/coe/indicator/cge.

⁵ nces.ed.gov/programs/digest/d19/tables/dt19_209.10.asp?current=yes.

Research shows that teachers of color benefit all students and can have a significant positive impact on students of color.⁶ When students of color are instructed by teachers of color, higher levels of student achievement,⁷ student encouragement, students forming aspirations (e.g., through role modeling), teacher recommendations (for example, to gifted and talented programs), and rigorous course-taking ⁸ have all been noted. A more diverse teacher workforce also increases the likelihood that students of color will have access to culturally and linguistically relevant teaching and learning and positive relationships.⁹ Research also demonstrates that teachers of color can be positive role models for all students in breaking down negative stereotypes and preparing students to live and work in a multiracial society.¹⁰ Thus, supporting teachers of color can be a critical strategy for advancing educational equity for students of color and addressing one of the root causes of institutional barriers to equity in the academic environment.¹¹

⁶ Dee, T. (2004). Teachers, race and student achievement in a randomized experiment. The Review of Economics and Statistics, 86(1), 195-210; and Gershenson, S., Hart, C. M. D., Lindsay, C. A., & Papageorge, N. W. (2017). The long-run impacts of same race teachers. Bonn, Germany: IZA Institute of Labor Economics. Discussion Paper Series.

⁷ Egalite, Anna, Brian Kisida, and Marcus A. Winters. “Representation in the Classroom: The Effect of Own-race Teachers on Student Achievement,” Economics of Education Review, 45 (April 2015), 44-52.

⁸ Grissom, Jason, Sarah Kabourek, and Jenna Kramer. “Exposure to Same-race or Same-ethnicity Teachers and Advanced Math Course-taking in High School: Evidence from a Diverse Urban District,” Teachers College Record, 122 (2020), 1-42.

⁹ Blazar, David. (2021). Teachers of Color, Culturally Responsive Teaching, and Student Outcomes: Experimental Evidence from the Random Assignment of Teachers to Classes. (EdWorkingPaper: 21-501). Retrieved from Annenberg Institute at Brown University: https://doi.org/10.26300/jym0-wz02.

¹⁰ www2.ed.gov/rschstat/eval/highered/racial-diversity/state-racial-diversity-workforce.pdf.

¹¹ www2.ed.gov/rschstat/eval/highered/racial-diversity/state-racial-diversity-workforce.pdf.

In light of the teacher shortages that existed prior to the pandemic and that have worsened since, the Department encourages applicants to consider how their program design can provide clinical experience for teaching candidates in high-need schools facing teacher shortages. A number of school districts are partnering with teacher preparation programs, in particular those with teacher residencies, to provide clinical experiences that are mutually beneficial for teacher candidates and teachers of record, and their students. For example, teacher residents, as part of their clinical experience, can serve in schools as substitutes, paraprofessionals, or tutors as their academic schedules allow and as they complete requirements for teacher certification. Applicants can see this Department of Education fact sheet for examples of educator preparation programs supporting high need schools in this way: https://www.ed.gov/coronavirus/factsheets/teacher-shortage.

A particular teacher shortage area in the Nation's public schools lies in the shortage of bilingual and multilingual teachers prepared to teach a growing population of ELs. ELs are the fastest growing student demographic, with over 10 percent of students identified as ELs currently.¹² Additionally, about one-quarter of all students speak a language other than English at home, whereas only 1 in 8 teachers do.¹³

¹² https://nces.ed.gov/programs/digest/d20/tables/dt20_204.20.asp.

¹³ https://datacenter.kidscount.org/data/tables/81-children-who-speak-a-language-other-than-english-at-home?loc=1&loct=1#detailed/1/any/false/1729,37,871,870,573,869,36,868,867,133/any/396,397.

The bilingual and multilingual teacher shortage has the potential to have a negative impact on all students, but especially ELs. These shortages may be among the reasons why ELs are among students with some of the lowest achievement levels and graduation rates.¹⁴ During the pandemic, ELs were also likely to lose instructional time, thus experiencing setbacks in their language acquisition goals.¹⁵ Research suggests that, for ELs, being taught by bilingual and multilingual teachers who are better prepared to meet their needs helps improve academic outcomes.¹⁶ Despite this, about a quarter of States do not require certification or endorsements for teachers who teach ELs.¹⁷

¹⁴ https://nces.ed.gov/programs/digest/d17/tables/dt17_219.46.asp?refer=dropout.

¹⁵ www.gao.gov/products/gao-21-43.

¹⁶ Benjamin Master, Susanna Loeb, Camille Whitney, and James Wyckoff. “Different Skills? Identifying Differentially Effective Teachers of English Language Learners,” The Elementary School Journal, 117 (2016), 261-284.

¹⁷ https://reports.ecs.org/comparisons/50-state-comparison-english-learner-policies-11.

Beyond the necessity to provide qualified bilingual and multilingual teachers to advance EL achievement, research also suggests that diverse classroom settings, such as in bilingual and multilingual education, may be positively associated with students' ability to empathize and relate to others, have long-term career benefits, and result in a higher degree of literacy and a stronger foundation for learning additional languages in the future.¹⁸ Learning another language from a young age is an asset that prepares all students for an increasingly globalized economy. Fostering a culture of language-learning for all students also communicates to linguistically marginalized students that their heritage languages and home identities are valuable and welcomed in school.

¹⁸ https://soeonline.american.edu/blog/benefits-of-bilingual-education.

Accordingly, this program encourages HBCUs, TCUs, and MSIs to develop centers of excellence that will implement effective recruitment, preparation, and support for teachers, in particular those interested in serving in high-need LEAs and hard-to-staff schools in underserved communities. HBCUs, TCUs, and MSIs are positioned to help remedy long-standing disparities that underserved students and communities face in receiving equal education opportunities.

Priorities: This notice contains one absolute priority and two competitive preference priorities (up to five points each). We are establishing these priorities for the FY 2022 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Projects that are evidence-based, comprehensive teacher preparation programs that provide extensive clinical experience. To meet this priority, the applicant must describe its record in graduating highly skilled, well-prepared and diverse teachers. The applicant must also address how it will—

(a) Examine the sources of inequity and inadequacy in resources and opportunity and implement pedagogical practices in teacher preparation programs that are inclusive with regard to race, ethnicity, culture, language, and disability status and that prepare teachers to create inclusive, supportive, equitable, unbiased, and identity-safe learning environments for their students;

(b) Prepare teacher candidates to integrate rigorous academic content, including through the effective use of technology, instructional techniques, and strategies consistent with universal design for learning principles in pedagogical practices and classroom features to improve student achievement;

(c) Prepare teacher candidates to design and deliver instruction in ways that are engaging and provide their students with opportunities to think critically and solve complex problems, apply learning in authentic and real-world settings, communicate and collaborate effectively, and develop academic mindsets, including through project-based, work-based, or other experiential learning opportunities;

(d) Prepare teacher candidates to build meaningful and trusting relationships with their students' families to support in-home, community-based, and in-school learning; and

(e) Provide sustained and high-quality preservice clinical experiences, including teaching assistant initiatives that facilitate the pathway to the teaching credential for those with paraprofessional experience; and provide mentoring of teacher candidates by exemplary teachers, which substantially increases interaction between the institution's faculty and new teachers and school site and district administrators in high-need LEAs or hard-to-staff schools to support and retain teachers. In providing such experiences, the Department encourages applicants to consider opportunities to provide preservice clinical experience earlier in the teacher preparation program, as is practicable, and in ways that benefit students and teachers.

Competitive Preference Priorities: For FY 2022, the Department strongly encourages the use of Competitive Preference Priority 1 as part of a comprehensive effort to respond to and address the teacher shortage present in the nation's high need-need public schools. For FY 2022 and any subsequent year in which we make awards from the list of unfunded applications from this competition, these priorities are competitive preference priorities. The Department establishes these priorities on the basis of section 242(b)(1) and (3) of the HEA and under the authority in section 437(d)(1) of GEPA. Under 34 CFR 75.105(c)(2)(i), we award up to an additional 10 points to an application, depending on how well the application meets these priorities. An applicant may address one or both of the competitive preference priorities. The point value for each competitive preference priority is in parenthesis.

These priorities are:

Competitive Preference Priority 1—Projects that are Designed to Increase and Retain the Number of Well-Prepared Teachers from Diverse Backgrounds (up to 5 points).

Projects that are designed to increase the number of well-prepared teachers and the diversity of the teacher workforce with a focus on increasing and retaining a diverse teacher workforce, and improving the preparation, recruitment, retention and placement of such teachers.

Applicants must describe how their project will integrate multiple services or initiatives across academic and student affairs, such as academic advising, counseling, stipends, child-care, structured/guided pathways, career services, or student financial aid, such as scholarships, with the goal of increasing program completion and credential attainment.

Applicants addressing this priority must include a plan for supporting teacher candidates underrepresented in the profession, including teacher candidates of color, from the beginning of the preparation program through graduation, including program entry rates, graduation rates, passage rates for certification and licensure exams, and successful employment placement between teacher candidate subgroups and an institution's overall teacher candidate population.

Competitive Preference Priority 2—Increasing the Number of Bilingual and/or Multilingual Teachers with Full Certification (up to 5 points).

Projects that are designed to prepare a new generation of effective and experienced bilingual and/or multilingual teachers for high-need schools by increasing the number of teachers across elementary and secondary schools who are fully certified to provide academic language instruction in a language other than English, including for ELs. These projects must prepare teacher candidates to lead students toward linguistic fluency and academic achievement in more than one language.

Applicants must describe how their project will integrate multiple services or initiatives across academic and student affairs, such as academic advising, counseling, stipends, child-care, structured/guided pathways, career services, or student financial aid, such as scholarships, and provide the necessary knowledge and skills so that teacher candidates can serve students from many different language backgrounds.

Applicants addressing this priority must include a plan for recruiting, supporting, and retaining bilingual and/or multilingual teacher candidates including those who may have a teaching credential but have not been teaching in bilingual and/or multilingual education settings; aspiring teachers; and for teaching assistants who are interested in becoming bilingual and/or multilingual teachers.

Definitions: The following definitions are from 34 CFR part 77.1 and 20 U.S.C. 1033.

Demonstrates a rationale means a key project component included in the project's logic model is informed by research or evaluation findings that suggest the project component is likely to improve relevant outcomes.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Scientifically based reading research

(1) Means research that applies rigorous, systemic, and objective procedures to obtain valid knowledge relevant to reading development, reading instruction, and reading difficulties; and

(2) Includes research that—

(i) Employs systemic, empirical methods that draw on observation or experiment;

(ii) Involves rigorous data analyses that are adequate to test the stated hypotheses and justify the general conclusions drawn;

(iii) Relies on measurements or observational methods that provide valid data across evaluators and observers and across multiple measurements and observations; and

(iv) Has been accepted by a peer-reviewed journal or approved by a panel of independent experts through a comparably rigorous, objective, and scientific review. (20 U.S.C. 1033)

Application Requirements: The following application requirements for FY 2022 are from section 242(b) of the HEA (20 U.S.C. 1033a(b)).

Grants provided by the Secretary must be used to ensure that current and future teachers meet the applicable State certification and licensure requirements, including any requirements for certification obtained through alternative routes to certification, or, with regard to special education teachers, the qualifications described in section 612(a)(14)(C) of the Individuals with Disabilities Education Act (IDEA), by carrying out one or more of the following activities:

(1) Implementing reforms within teacher preparation programs to ensure that such programs are preparing teachers who meet the applicable State certification and licensure requirements, including any requirements for certification obtained through alternative routes to certification, or, with regard to special education teachers, the qualifications described in section 612(a)(14)(C) of the IDEA, are able to understand scientifically valid research, and are able to use advanced technology effectively in the classroom, including use of instructional techniques to improve student academic achievement, by—

(i) Retraining or recruiting faculty; and

(ii) Designing (or redesigning) teacher preparation programs that—

(A) Prepare teachers to serve in low-performing schools and close student achievement gaps, and that are based on rigorous academic content, scientifically valid research (including scientifically based reading research and mathematics research, as it becomes available), and challenging State academic content standards and student academic achievement standards; and

(B) Promote strong teaching skills.

(2) Providing sustained and high-quality preservice clinical experience, including the mentoring of prospective teachers by exemplary teachers, substantially increasing interaction between faculty at IHEs and new and experienced teachers, principals, and other administrators at elementary schools or secondary schools, and providing support, including preparation time, for such interaction.

(3) Developing and implementing initiatives to promote retention of teachers who meet the applicable State certification and licensure requirements, including any requirements for certification obtained through alternative routes to certification, or, with regard to special education teachers, the qualifications described in section 612(a)(14)(C) of the IDEA, and highly qualified principals, including minority teachers and principals, including programs that provide—

(i) Teacher or principal mentoring from exemplary teachers or principals, respectively; or

(ii) Induction and support for teachers and principals during their first 3 years of employment as teachers or principals, respectively.

(4) Awarding scholarships based on financial need to help students pay the costs of tuition, room, board, and other expenses of completing a teacher preparation program, not to exceed the cost of attendance.

(5) Disseminating information on effective practices for teacher preparation and successful teacher certification and licensure assessment preparation strategies.

(6) Activities authorized under section 202 of the HEA (20 U.S.C. 1022a).

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program under 20 U.S.C. 1033a of the HEA, and therefore qualifies for this exemption. In order to ensure timely grant awards, the Secretary has decided to forgo public comment on the priorities and funding requirements under section 437(d)(1) of GEPA.

Program Authority: 20 U.S.C. 1033-1033a; 20 U.S.C. 1138-1138d; the Explanatory Statement accompanying Division H of the Consolidated Appropriations Act, 2022 (Pub. L. 117-103).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Discretionary grant.

Estimated Available Funds: $7,920,000.

Contingent upon the availability of funds and the quality of applications, we may make additional awards in subsequent years from the list of unfunded applications from this competition.

Estimated Range of Awards: $1,500,000 to $1,600,000.

Estimated Average Size of Awards: $1,584,000

Maximum Award: Up to $1,600,000 for 4 years.

Minimum Award: The minimum amount of each grant shall be $500,000.

Note: The maximum award is based on a 4-year budget period. Applicants will need to prepare a multiyear budget request for up to 4 years.

Estimated Number of Awards: Up to 5.

Note: The Department is not bound by any estimates in this notice.

Project Period: Up to 4 years.

III. Eligibility Information

1. Eligible Applicants: Eligible institutions (as articulated under section 241(1) of the HEA) under the Hawkins program include—

(i) An IHE that has a qualified teacher preparation program that is—

(A) A part B institution (as defined in section 322 of the HEA);

(B) A Hispanic-serving institution (as defined in section 502 of the HEA);

(C) A Tribal College or University (as defined in section 316 of the HEA);

(D) An Alaska Native-serving institution (as defined in section 317(b) of the HEA);

(E) A Native Hawaiian-serving institution (as defined in section 317(b) of the HEA);

(F) A Predominantly Black Institution (as defined in section 318 of the HEA);

(G) An Asian American and Native American Pacific Islander-serving institution (as defined in section 320(b) of the HEA); or

(H) A Native American-serving, nontribal institution (as defined in section 319 of the HEA);

(ii) A consortium of institutions described in paragraph (i); or

(iii) An institution described in paragraph (i), or a consortium described in paragraph (ii), in partnership with any other IHE, but only if the center of excellence established is located at an institution described in paragraph (i).

2. a. Cost Sharing or Matching: This competition does not require cost sharing or matching.

b. Supplement-Not-Supplant: This competition involves supplement-not-supplant funding requirements, which are being established under the waiver authority of section 437(d)(1) of GEPA. Grant funds must be used so that they supplement and, to the extent practical, increase the funds that would otherwise be available for the activities to be carried out under this grant.

c. Indirect Cost Rate Information: This program uses the waiver authority of section 437(d)(1) of GEPA to limit a grantee's indirect cost reimbursement to eight percent (8 percent) of a modified total direct cost base. For more information regarding indirect costs, or to obtain a negotiated indirect cost rate, please see www.ed.gov/about/offices/list/ocfo/intro.html.

d. Administrative Cost Limitation: In accordance with section 242(e) of the HEA, an eligible institution that receives a grant under this program may use not more than 2 percent of the funds provided to administer the grant. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.2.

Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5” x 11”, on one side only, with 1” margins at the top, bottom, and both sides.

• Double space (no more than three lines per vertical inch) all text in the application narrative, except titles, headings, footnotes, quotations, references, and captions.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract. However, the recommended page limit does apply to all the application narrative.

V. Application Review Information

1. Selection Criteria: The selection criteria for this competition are from 34 CFR 75.210. The points assigned to each criterion are indicated in the parentheses next to the criterion. An applicant may earn up to a total of 100 points based on the selection criteria and up to 10 additional points under the competitive preference priorities, for a total score of up to 110 points. All applications will be evaluated based on the selection criteria as follows:

(a) Quality of the Project Design. (Maximum 30 points)

The Secretary considers the quality of the design of the proposed project. In determining the quality of the design of the proposed project, the Secretary considers the following factors:

(1) The extent to which the proposed project is part of a comprehensive effort to improve teaching and learning and support rigorous academic standards for students. (Up to 10 points)

(2) The extent to which the design of the proposed project reflects up-to-date knowledge from research and effective practice. (Up to 5 points)

(3) The extent to which the goals, objectives, and outcomes to be achieved by the proposed project are clearly specified and measurable. (Up to 5 points)

(4) The extent to which the design of the proposed project is appropriate to, and will successfully address, the needs of the target population or other identified needs. (Up to 5 points)

(5) The extent to which the proposed project demonstrates a rationale (as defined in this notice). (Up to 5 points)

(b) Significance. (Maximum 20 points)

The Secretary considers the significance of the proposed project. In determining the significance of the proposed project, the Secretary considers the following factors:

(1) The likelihood that the proposed project will result in system change or improvement. (Up to 10 points)

(2) The extent to which the results of the proposed project are to be disseminated in ways that will enable others to use the information or strategies. (Up to 10 points)

(c) Quality of the Project Services. (Maximum 25 points)

The Secretary considers the quality of the services to be provided by the proposed project.

(1) In determining the quality of the services to be provided by the proposed project, the Secretary considers the quality and sufficiency of strategies for ensuring equal access and treatment for eligible project participants who are members of groups that have traditionally been underrepresented based on race, color, national origin, gender, age, or disability. (Up to 10 points)

(2) In addition, the Secretary considers the following factors:

(i) The likely impact of the services to be provided by the proposed project on the intended recipients of those services. (Up to 10 points)

(ii) The extent to which the services to be provided by the proposed project involve the collaboration of appropriate partners for maximizing the effectiveness of project services. (Up to 5 points)

(d) Quality of the Management Plan. (Maximum 5 points)

The Secretary considers the quality of the management plan for the proposed project. In determining the quality of the management plan for the proposed project, the Secretary considers the adequacy of the management plan to achieve the objectives of the proposed project on time and within budget, including clearly defined responsibilities, timelines, and milestones for accomplishing project tasks.

(e) Quality of the Project Evaluation. (Maximum 20 points)

The Secretary considers the quality of the evaluation to be conducted of the proposed project. In determining the quality of the evaluation, the Secretary considers the following factors:

(1) The extent to which the evaluation will provide guidance about effective strategies suitable for replication or testing in other settings. (Up to 10 points)

(2) The extent to which the methods of evaluation will provide performance feedback and permit periodic assessment of progress toward achieving intended outcomes. (Up to 10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

The Secretary will select applications for funding in rank order, according to the average score received from the peer review and from the competitive preference priorities addressed by the applicant. If the Secretary has insufficient funding to award multiple applications with the same score, in making a selection, the first tiebreaker will be to select the applicant with the highest average score under Competitive Priority One. If a tie still exists after applying the first tiebreaker, the Secretary will select the applicant with the highest average score under Quality of the Project Design. If a third tiebreaker is required, the Secretary will select the applicant with the highest average score under Quality of the Project Services. Finally, if a fourth tiebreaker is required, the Secretary will select the applicant based on the number of fully certified teachers that the applicant's project is designed to produce.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under 34 CFR 75.110, the Department will use the following performance measures to evaluate the success of the Hawkins program grants:

(a) The number and percentage of teacher candidates who complete the teacher preparation program, disaggregated by race.

(b) The number and percentage of teacher candidates, disaggregated by race, served by the funded program who become fully certified and are placed as teachers of record in high-need LEAs or hard-to-staff schools.

(c) The number and percentage of bilingual and/or multilingual teacher candidates who complete the teacher preparation program.

(d) The number and percentage of bilingual and/or multilingual teacher candidates, served by the funded program who become fully certified and are placed as teachers of record in high-need LEAs or hard-to-staff schools.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for the Office of Postsecondary Education.

[FR Doc. 2022-18273 Filed 8-22-22; 8:45 am]

BILLING CODE 4000-01-P